DEPARTMENT OF COMMERCE

International Trade Administration

[A-570-863]

Notice of Extension of Time Limit for Final Results of Antidumping Duty Administrative Review: Honey From the People's Republic of China

AGENCY: Import Administration, International Trade Administration, Department of Commerce.

EFFECTIVE DATE: January 25, 2006.

FOR FURTHER INFORMATION CONTACT: Anya Naschak or Kristina Boughton, AD/CVD Operations, Office 9, Import Administration, International Trade Administration, U.S. Department of Commerce, 14th Street and Constitution Avenue, NW., Washington, DC 20230; telephone: (202) 482-6375 and (202) 482-8173, respectively.

SUPPLEMENTARY INFORMATION:

Background

The Department of Commerce (the Department) published the preliminary results of the antidumping duty administrative review on honey from the People's Republic of China on December 16, 2005. Honey from the People's Republic of China: Preliminary Results and Partial Rescission of Antidumping Duty Administrative Review, 70 FR 74764 (December 16, 2005).

Extension of Time Limits for Final Results

Pursuant to Section 751(a)(3)(A) of the Tariff Act of 1930, as amended (the Act), and section 351.213(h)(1) of the Department's regulations, the Department shall issue the preliminary results of an administrative review within 245 days after the last day of the anniversary month of the date of publication of the order. The Act further provides that the Department shall issue the final results of review within 120 days after the date on which the notice of the preliminary results was published in the Federal Register. However, if the Department determines that it is not practicable to complete the review within this time period, section 751(a)(3)(A) of the Act and section 351.213(h)(2) of the Department's regulations allow the Department to extend the 245-day period to 365 days and the 120-day period to 180 days.

On January 3, 2006, at the request of respondents, the Department granted all parties additional time to submit surrogate value information. The Department also extended the deadline for parties to submit briefs. As a result of these extensions and the complex issues raised in this review segment, including honey valuation and intermediate input methodology, the Department has determined that it is not practicable to complete this administrative review within the current time limit.

Section 751(a)(3)(A) of the Act and section 351.213(h) of the Department's regulations allow the Department to extend the deadline for the final results of a review to a maximum of 180 days from the date on which the notice of the preliminary results was published. For the reasons noted above, the Department is extending the time limit for the completion of these final results until no later than Friday, June 9, 2006, which is 175 days from the date on which the notice of the preliminary results was published.

This notice is issued and published in accordance with sections 751(a)(3)(A) and 777(i) of the Act.

Dated: January 19, 2006.
Stephen J. Claeys,
Deputy Assistant Secretary for Import Administration.

[FR Doc. E6-927 Filed 1-24-06; 8:45 am]

BILLING CODE 3510-DS-S